DEPARTMENT OF JUSTICE

Notice of Proposed Consent Decree Under the Clean Air Act

Notice is hereby given that on December 18, 2007, a proposed consent decree in United States v. Custom Climate Control, Inc., Civil Action No. 8:07-cv-2295-T-24TGW, was lodged with the United States District Court for the Middle District of Florida.

In this action, filed pursuant to Section 608 of Title VI of the Clean Air Act, Stratospheric Ozone Protection (“Act”), 42 U.S.C. 7671g, and the regulation codified in 40 CFR part 82 Subpart F—Recycling Emissions Reduction Program, the United States alleged claims against Custom Climate Control, Inc. (“Custom Climate”) for the company's improper maintenance and disposal of ozone-depleting substances through its servicing and selling air conditioning units.

The United States Department of Justice, on behalf of the United States Environmental Protection Agency (“U.S. EPA”), has reached a settlement with Custom Climate regarding the alleged claims. Pursuant to the Consent Decree, Custom Climate is to carry-out specific injunctive relief in order to comply with the Act and its implementing regulations. The Consent Decree also obligates Custom Climate to pay a civil penalty amount of $5,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the Consent Decree between the United States and Custom Climate Control, Inc., DOJ Ref. No. 90-5-2-1-08600.

The proposed Consent Decree may be examined at the United States Attorney's Office, Middle District of Florida, 400 North Tampa Street, Suite 3200, Tampa, FL 33602, and at the United States Environmental Protection Agency, Region 4, 61 Forsyth Street, SW, Atlanta, GA 30303. During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Henry S. Friedman,
Assistant Section Chief, Environmental Enforcement Section, Environment and Natural Resources Division.

[FR Doc. 07-6296 Filed 1-4-08; 8:45 am]

BILLING CODE 4410-15-M